DEPARTMENT OF HEALTH AND HUMAN SERVICES

Centers for Disease Control and Prevention

Disease, Disability, and Injury Prevention and Control Special Emphasis Panel (SEP): Exploratory Developmental Grant (R21) Program, RFA OH-02-001

In accordance with section 10(a)(2) of the Federal Advisory Committee Act (Pub. L. 92-463), the Centers for Disease Control and Prevention (CDC) announces the following meeting:

Name: Disease, Disability, and Injury Prevention and Control Special Emphasis Panel (SEP): Exploratory Developmental Grant (R21) Program, RFA OH-02-001.

Times and Dates: 8 a.m.-8:30 a.m., February 19, 2002 (Open), 8:40 a.m.-5 p.m., February 19, 2002 (Closed), 8 a.m.-5 p.m., February 20, 2002 (Closed).

Place: Loews L'Enfant Plaza Hotel, 480 L'Enfant SW., Washington DC 20024.

Status: Portions of the meeting will be closed to the public in accordance with provisions set forth in section 552b(c) (4) and (6), Title 5 U.S.C., and the Determination of the Deputy Director for Program Management, CDC, pursuant to Public Law 92-463.

Matters to be Discussed: The meeting will include the review, discussion, and evaluation of applications received in response to RFA OH-02-001.

FOR FURTHER INFORMATION CONTACT: Pervis Major, Ph.D., Scientific Review Administrator, National Institute for Occupational Safety and Health, CDC, 1095 Willowdale Road, M/S B228, telephone (304) 285-5979.

The Director, Management Analysis and Services Office has been delegated the authority to sign Federal Register notices pertaining to announcements of meetings and other committee management activities, for both the Centers for Disease Control and Prevention and the Agency for Toxic Substances and Disease Registry.

Dated: January 30, 2002.
Alvin Hall,
Acting Director, Management Analysis and Services Office, Centers for Disease Control and Prevention (CDC).

[FR Doc. 02-2658 Filed 2-4-02; 8:45 am]

BILLING CODE 4163-19-P